DEPARTMENT OF ENERGY

Federal Energy Regulatory Commission

[Docket Nos. CP17-20-000, CP17-21-000, CP18-7-000]

Port Arthur LNG, LLC, Port Arthur Pipeline, LLC; Notice of Request for Extension of Time

Take notice that on July 28, 2022, Port Arthur LNG, LLC (PALNG) and Port Arthur Pipeline, LLC (PAPL), (together Port Arthur or the Applicants), requested that the Federal Energy Regulatory Commission (Commission) grant an extension of time until June 18, 2028, to complete construction and make the Liquefaction Project, the Louisiana Connector Project, and the Texas Connector Project available for service, as authorized in the April 18, 2019 Order Granting Authorizations Under Sections 3 and 7 of the Natural Gas Act (Authorization Order) ¹ and as amended in the October 15, 2020 (Order Amending Certificate) ²

¹ Port Arthur LNG, LLC, et. al. 167 FERC ¶ 61,052 (2019) (Authorization Order). The Authorization Order describes the various locations in Texas and Louisiana where the approved facilities are to be located.

² Port Arthur Pipeline, LLC, 173 FERC ¶ 61,073 (2020). The Order Amending Certificate amended the certificate for the Louisiana Connector Project in 2020 to allow PAPL to add three new interconnections and relocate the site of the approved compressor station and interconnection. Ordering Para. (H) provides that “[PAPL] shall complete construction of the proposed facilities and make them available for service within the timeframe conditioned in the [Authorization Order].”

The Applicants state that since the Authorization Order was issued in 2019, Port Arthur has worked diligently to develop the Liquefaction Project, Texas Connector Project, and Louisiana Connector Project. PALNG has obtained all federal, state, and local authorizations necessary for construction of the Liquefaction Project facilities, and has taken concrete steps toward construction of the Liquefaction Project. The applicants assert that PAPL is fully subscribed and entered into 20-year precedent agreements with PALNG for 100 percent of the capacity on both the Louisiana Connector and Texas Connector Projects.

Mostly due to the unforeseeable impacts of the COVID-19 pandemic, the Applicants have encountered unanticipated circumstances that have prevented them from meeting the construction and in-service deadlines established in the Authorization Order. Port Arthur requests to extend the deadline to construct and place the project facilities in service and affirms that no significant changes in circumstances exist that threaten the commercial viability of the projects.

This notice establishes a 15-calendar day intervention and comment period deadline. Any person wishing to comment on FLNG's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).

As a matter of practice, the Commission itself generally acts on requests for extensions of time to complete construction for Natural Gas Act facilities when such requests are contested before order issuance. For those extension requests that are contested,³ the Commission will aim to issue an order acting on the request within 45 days.⁴ The Commission will address all arguments relating to whether the applicant has demonstrated there is good cause to grant the extension.⁵ The Commission will not consider arguments that re-litigate the issuance of the certificate order, including whether the Commission properly found the project to be in the public convenience and necessity and whether the Commission's environmental analysis for the certificate complied with the National Environmental Policy Act.⁶ At the time a pipeline requests an extension of time, orders on certificates of public convenience and necessity are final and the Commission will not re-litigate their issuance.⁷ The OEP (spell out) Director, or his or her designee, will act on all of those extension requests that are uncontested.

³ Contested proceedings are those where an intervenor disputes any material issue of the filing. 18 CFR 385.2201(c)(1) (2019).

⁴ Algonquin Gas Transmission, LLC, 170 FERC ¶ 61,144, at P 40 (2020).

⁵ Id. at P 40.

⁶ Similarly, the Commission will not re-litigate the issuance of an NGA section 3 authorization, including whether a proposed project is not inconsistent with the public interest and whether the Commission's environmental analysis for the permit order complied with NEPA.

⁷ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the “eFile” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Comment Date: 5:00 p.m. Eastern Time on August 17, 2022.

Dated: August 2, 2022.
Kimberly D. Bose,
Secretary.

[FR Doc. 2022-16933 Filed 8-5-22; 8:45 am]

BILLING CODE 6717-01-P